NUCLEAR REGULATORY COMMISSION

10 CFR Parts 50, 52, and 100

[NRC-2023-0153]

Regulatory Guide: General Site Suitability for Nuclear Power Stations

AGENCY: Nuclear Regulatory Commission.

ACTION: Final guide; issuance.

SUMMARY: The U.S. Nuclear Regulatory Commission (NRC) is issuing Revision 4 to Regulatory Guide (RG), 4.7, “General Site Suitability for Nuclear Power Stations.” Revision 4 to RG 4.7 describes the major site characteristics related to public health and safety and environmental issues that the NRC staff considers in determining the suitability of sites for commercial nuclear power stations.

DATES: Revision 4 to RG 4.7 is available on February 29, 2024.

ADDRESSES: Please refer to Docket ID NRC-2023-0153 when contacting the NRC about the availability of information regarding this document. You may obtain publicly available information related to this document using any of the following methods:

• Federal Rulemaking Website: Go to https://www.regulations.gov and search for Docket ID NRC-2023-0153. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Revision 4 to RG 4.7 and the regulatory analysis may be found in ADAMS under Accession Nos. ML23348A082 and ML23123A095, respectively.

Regulatory guides are not copyrighted, and NRC approval is not required to reproduce them.

FOR FURTHER INFORMATION CONTACT: Edward O'Donnell, Office of Nuclear Regulatory Research, telephone: 301-415-3317; email: Edward.ODonnell@nrc.gov and Belkys Sosa, Office of Nuclear Reactor Regulation, telephone: 301-415-3357; email: Belkys.Sosa@nrc.gov. Both are staff of the U.S. Nuclear Regulatory Commission, Washington, DC 20555-0001.

SUPPLEMENTARY INFORMATION:

I. Discussion

The NRC is issuing a revision in the NRC's “Regulatory Guide” series. This series was developed to describe methods that are acceptable to the NRC staff for implementing specific parts of the agency's regulations, to explain techniques that the staff uses in evaluating specific issues or postulated events, and to describe information that the staff needs in its review of applications for permits and licenses.

The proposed Revision 4 to RG 4.7 was issued with a temporary identification of Draft Regulatory Guide (DG)-4034. The NRC staff revised RG 4.7 to include alternative approaches to the population-density criterion and to expand the regulatory guidance developed for large light-water reactor (LWR) technology with appropriate modifications for advanced reactor designs (e.g., non-LWR technologies and light-water small modular reactors). Specifically, this revision includes a new appendix A, which implements the Commission approved alternative population-related criteria in SRM-SECY-20-0045 “Population-Related Siting Considerations for Advanced Reactors,” (ADAMS Accession No. ML22194A885). Appendix A provides guidance on alternatives to the existing guidance in section C.1.4 of this RG that establishes a fixed distance of 20 miles out to which population density is assessed for any new application. Readers should understand that the body of this RG was developed for large LWRs, while appendix A is intended for advanced reactor designs. This revision also removes repetition and improves clarity. Text from the discussion section and the two tables in Revision 3 to the RG were brought together in Section C, “Staff Regulatory Guidance.” To present each topic in Section C cohesively, the document was structured to list (1) relevant statutes and regulations, (2) related guidance, and (3) considerations, regulatory experience, and staff positions.

II. Additional Information

The NRC published a notice of the availability of DG-4034 in the Federal Register on October 18, 2023 (88 FR 71777) for a 30-day public comment period. The public comment period closed on November 17, 2023. Public comments on DG-4034 and the staff responses to the public comments are available in ADAMS under Accession No. ML23324A007.

As noted in the Federal Register on December 9, 2022 (87 FR 75671), this document is being published in the “Rules” section of the Federal Register to comply with publication requirements under chapter I of title 1 of the Code of Federal Regulations (CFR).

III. Congressional Review Act

This RG is a rule as defined in the Congressional Review Act (5 U.S.C. 801-808). However, the Office of Management and Budget has not found it to be a major rule as defined in the Congressional Review Act.

IV. Backfitting, Forward Fitting, and Issue Finality

Issuance of this RG does not constitute backfitting as defined in 10 CFR 50.109, “Backfitting,” and as described in NRC Management Directive (MD) 8.4, “Management of Backfitting, Forward Fitting, Issue Finality, and Information Requests,” would not affect the issue finality of any approval issued under 10 CFR part 52; and would not constitute forward fitting as that term is defined and described in MD 8.4. This RG will not apply to any construction permits, operating licenses, early site permits, limited work authorizations issued under 10 CFR 50.10, or combined licenses, for which the NRC issued a final environmental impact statement (EIS) preceded by a draft EIS under 10 CFR 51.76 or 51.75, any of which were issued by the NRC prior to issuance of this final RG. The NRC has already completed its siting determination for those construction permits, operating licenses, early site permits, limited work authorizations, and combined licenses. Therefore, no further NRC regulatory action on siting will occur for those licenses, permits, and authorizations, for which the guidance in the RG would be relevant. The methods described in this RG will be used in evaluating applications for construction permits, early site permits, combined operating licenses and limited work authorizations, which includes information under 10 CFR 51.49(b) or (f), with respect to compliance with applicable regulations governing the siting of new nuclear power plants and testing facilities, unless the applicant proposes an acceptable alternative method for complying with those regulations. Methods that differ from those described in this RG may be deemed acceptable if the applicant provides sufficient basis and information for the NRC staff to verify that the proposed alternative complies with the applicable NRC regulations.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: February 23, 2024.
For the Nuclear Regulatory Commission.
Meraj Rahimi,
Chief, Regulatory Guide and Programs Management Branch, Division of Engineering, Office of Nuclear Regulatory Research.

[FR Doc. 2024-04223 Filed 2-28-24; 8:45 am]

BILLING CODE 7590-01-P